INTERNATIONAL TRADE COMMISSION

[Investigation No. 337-TA-1104]

Certain Multi-Domain Test and Measurement Instruments; Termination of Investigation

AGENCY: U.S. International Trade Commission.

ACTION: Notice.

SUMMARY: Notice is hereby given that the U.S. International Trade Commission has determined not to review the presiding administrative law judge's (“ALJ”) initial determination (“ID”) (Order No. 16), which terminated the investigation on the basis of withdrawal of the complaint.

FOR FURTHER INFORMATION CONTACT: Sidney A. Rosenzweig, Office of the General Counsel, U.S. International Trade Commission, 500 E Street SW, Washington, DC 20436, telephone (202) 708-2532. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at http://www.usitc.gov. The public record for this investigation may be viewed on the Commission's electronic docket (EDIS) at http://edis.usitc.gov. Hearing-impaired persons are advised that information on this matter can be obtained by contacting the Commission TDD terminal on (202) 205-1810.

SUPPLEMENTARY INFORMATION: The Commission instituted this investigation on March 16, 2018, based on a complaint filed by Tektronix, Inc. of Beaverton, Oregon (“Tektronix”). 83 FR 11790 (Mar. 16, 2018). The complaint alleged violations of section 337 of the Tariff Act of 1930, as amended (19 U.S.C. 1337), in the importation into the United States, or in the sale for importation, or the sale within the United States after importation of certain multi-domain test and measurement instruments, by reason of the infringement of certain claims of U.S. Patent No. 8,521,460 and U.S. Patent No. 8,675,719. Id. The notice of investigation named three respondents: Rohde & Schwartz GmbH & Co. KG of Munich, Germany; Rohde & Schwartz Vertriebs GmbH of Munich, Germany; and Rohde & Schwartz USA, Inc. of Columbia, Maryland (collectively, “R&S”). Id. at 11791.

On May 30, 2018, R&S moved to terminate the investigation as to certain accused products on the basis of a consent order stipulation and proposed consent order for each of the three respondents. On July 13, 2018, the ALJ granted the motion as Order No. 12. On August 10, 2018, the Commission determined not to review Order No. 12, and the Commission issued consent orders as to each of the respondents.

In view of the consent orders, on August 22, 2018, Tektronix moved to terminate the investigation in its entirety based on withdrawal of the complaint as to any remaining accused products. R&S did not oppose the motion.

On August 24, 2018, the presiding ALJ granted the motion as the subject ID (Order No. 16). The ID finds that the motion complies with Commission Rule 210.21(a), 19 CFR 210.21(a), and that no extraordinary circumstances exist that would prevent termination of the investigation. ID at 2.

No petitions for review of the ID were filed. The Commission has determined not to review the ID. The investigation is thereby terminated.

The authority for the Commission's determination is contained in section 337 of the Tariff Act of 1930, as amended (19 U.S.C. 1337), and in Part 210 of the Commission's Rules of Practice and Procedure (19 CFR part 210).

By order of the Commission.
Issued: September 17, 2018.
Lisa Barton,
Secretary to the Commission.

[FR Doc. 2018-20536 Filed 9-20-18; 8:45 am]

BILLING CODE 7020-02-P